DEPARTMENT OF TRANSPORTATION

Federal Motor Carrier Safety Administration

49 CFR Parts 365, 385, and 387

[Docket No. FMCSA 97-2709 (formerly FHWA-97-2709)]

RIN 2126-AA26 (formerly RIN 2125-AE01)

Registration of For-Hire Motor Carriers, Property Brokers, and Freight Forwarders; Withdrawal

AGENCY: Federal Motor Carrier Safety Administration (FMCSA), DOT.

ACTION: Notice of proposed rulemaking (NPRM); withdrawal.

SUMMARY: The FMCSA withdraws the notice of proposed rulemaking (NPRM) relating to proposed interim rules on the registration of for-hire motor property and passenger carriers, property brokers, and freight forwarders published in the Federal Register at 63 FR 7362 on February 13, 1998. This NPRM will be superseded by three rulemaking proceedings now in development that will impact the registration process: registration rules for new entrants as required by the Motor Carrier Safety Improvement Act of 1999 (MCSIA); registration rules for Mexican motor carriers operating in the United States under the North American Free Trade Agreement (NAFTA); and rules implementing a unified carrier registration system as required by the Interstate Commerce Commission Termination Act of 1995 (ICCTA). Maintaining an open docket on the proposed interim registration rules would be inconsistent with changes that FMCSA will propose in these proceedings.

DATES: The notice of proposed rulemaking published on February 13, 1998 at 63 FR 7362 is withdrawn as of June 15, 2001.

FOR FURTHER INFORMATION CONTACT: Angeli Sebastian, Chief, Driver and Carrier Operations, MC-PSD, (202) 366-4001, Federal Motor Carrier Safety Administration, Department of Transportation, 400 Seventh Street, SW., Washington, DC 20590.

SUPPLEMENTARY INFORMATION: The Interstate Commerce Commission Termination Act of 1995 (ICCTA) (Pub. L.104-88, 109 Stat. 803) required the Secretary of Transportation to issue regulations replacing: (1) the current DOT identification number system, (2) the single State registration system under 49 U.S.C. 14504, (3) the registration system for for-hire motor carriers, property brokers and freight forwarders under chapter 139 of title 49, and (4) the financial responsibility information system under 49 U.S.C. 13906 with a single on-line Federal system. Before implementation of this unified system, the ICCTA authorized the Secretary to continue registering for-hire motor carriers, property brokers and freight forwarders under the system in effect prior to the Act's January 1, 1996 effective date.

On February 13, 1998, the Federal Highway Administration (FHWA) (the agency responsible for registering motor carriers, property brokers and freight forwarders after the demise of the ICC and before the creation of the FMCSA) proposed revisions to the old ICC registration rules (recodified as 49 CFR part 365) to conform to statutory changes made by the ICCTA (63 FR 7362). These proposed regulations were to be interim rules because they were intended to remain in effect only until implementation of the unified registration system required by section 13908.

The FHWA published an advance notice of proposed rulemaking (ANPRM) on August 26, 1996, inviting public comment on the elements of the unified system envisioned by section 13908 (61 FR 43816). The FMCSA, after considering these comments, is developing a notice of proposed rulemaking that will supersede the proposed rules published on February 13, 1998. Furthermore, the FMCSA intends to soon propose additional revisions to part 365 in response to the new entrant requirements of section 210 of the MCSIA and has already proposed changes to part 365 to accommodate the anticipated expansion of Mexican motor carrier operations within the United States in accordance with NAFTA. Because of these developments, the NPRM is being withdrawn.

Issued on: May 10, 2001.
Julie Anna Cirillo,
Acting Deputy Administrator.

[FR Doc. 01-12348 Filed 5-15-01; 8:45 am]

BILLING CODE 4910-EX-P